DEPARTMENT OF COMMERCE

National Oceanic and Atmospheric Administration

RIN 0648-XA344

Pacific Fishery Management Council; Public Meeting

AGENCY: National Marine Fisheries Service (NMFS), National Oceanic and Atmospheric Administration (NOAA), Commerce.

ACTION: Notice of public meeting.

SUMMARY: The review panel (Panel) for assessment methods for data-poor species will hold a work session that is open to the public.

DATES: The Review of Assessment Methods for Data-Poor Species will be held beginning at 8 a.m., Monday, April 25, 2011 and end at 5:30 p.m. or as necessary to complete business for the day. The Panel will reconvene on Tuesday, April 26 and will continue through Friday, April 29, 2011 beginning at 8 a.m. and ending at 5:30 p.m. each day, or as necessary to complete business. The Panel will adjourn on Friday, April 29, 2011.

ADDRESSES: The Review of Assessment Methods for Data-Poor Species will be held at the Santa Cruz Laboratory of the NMFS Southwest Fisheries Science Center, 110 Shaffer Road, Santa Cruz, CA 95060; telephone: (831) 420-3900.

Council address: Pacific Fishery Management Council (Pacific Council), 7700 NE Ambassador Place, Suite 101, Portland, OR 97220-1384.

FOR FURTHER INFORMATION CONTACT: Ms. Stacey Miller, NMFS Northwest Fisheries Science Center; telephone: (541) 961-8475; or Mr. John DeVore, Pacific Fishery Management Council; telephone: (503) 820-2280.

SUPPLEMENTARY INFORMATION: The purpose of the Review of Assessment Methods for Data-Poor Species is to review assessment methods for use on data-poor or data-limited stocks in the Pacific Council's Groundfish Fishery Management Plan (FMP) and provide a list of endorsed methods to the Pacific Fishery Management Council. Stock assessment methods including Depletion-Corrected Average Catch (DCAC) and Depletion-Based Stock Reduction Analysis (DB-SRA) will be reviewed at the meeting. Several developments of these methods have been proposed, which could raise stocks from Category 3 (catch-based only) to Category 2 in the Groundfish FMP tier system. Category 2 stocks are those where a basic assessment model is fit to trend information.

No management actions will be decided by the Panel. The Panel's role will be development of recommendations and reports for consideration by the Pacific Council at its June meeting in Spokane, WA.

Although non-emergency issues not contained in the meeting agenda may come before the Panel participants for discussion, those issues may not be the subject of formal Review Panel action during this meeting. Panel action will be restricted to those issues specifically listed in this notice and any issues arising after publication of this notice that require emergency action under Section 305(c) of the Magnuson-Stevens Fishery Conservation and Management Act, provided the public has been notified of the Panel participants' intent to take final action to address the emergency.

Special Accommodations

This meeting is physically accessible to people with disabilities. Requests for sign language interpretation or other auxiliary aids should be directed to Mr. Kris Kleinschmidt at (503) 820-2280 at least 5 days prior to the meeting date.

Dated: March 30, 2011.
Tracey L. Thompson,
Acting Director, Office of Sustainable Fisheries, National Marine Fisheries Service.

[FR Doc. 2011-7913 Filed 4-1-11; 8:45 am]

BILLING CODE 3510-22-P